DEPARTMENT OF JUSTICE

Antitrust Division

Notice Pursuant to the National Cooperative Research and Production Act of 1993—Rapid Response Partnership Vehicle

Notice is hereby given that, on January 16, 2025, pursuant to section 6(a) of the National Cooperative Research and Production Act of 1993, 15 U.S.C. 4301 et seq. (“the Act”), Rapid Response Partnership Vehicle (“RRPV”) has filed written notifications simultaneously with the Attorney General and the Federal Trade Commission disclosing changes in its membership. The notifications were filed for the purpose of extending the Act's provisions limiting the recovery of antitrust plaintiffs to actual damages under specified circumstances.

Specifically, Fisher BioServices, Inc., Rockville, MD; Landmark Vaccines, Ltd., Loughborough, UNITED KINGDOM; Rx Bandz, Locust Valley, NY; Zeteo Tech, Inc., Sykesville, MD; BioNet-Asia Co., Ltd, Bangkok, KINGDOM OF THAILAND; EmitBio, Inc., Morrisville, NC; Matisse Pharmaceuticals, B.V., Geleen, KINGDOM OF THE NETHERLANDS; National Institute for Pharmaceutical Technology and Education, Inc., Minneapolis, MN; ProtonDx, Ltd., London, UNITED KINGDOM; BioVaxys Technology Corp., North Miami, FL; Enplas, Santa Clara, CA; RHEAVITA BV, Ghent, BELGIUM; Celltheon, Union City, CA; Chromatan, Inc., Lower Gwynedd, PA; Cyrus Biotechnology, Seattle, WA; Eradivir, Inc., West Lafayette, IN; InDevR, Inc., Boulder, CO; Kudo Biotechnology, Inc., Needham, MA; Panoplia Laboratories, Inc., Cambridge, MA; The Regents of the University of California on behalf of its Los Angeles campus, Los Angeles, CA; Meridian Medical Technologies LLC, St. Louis, MO; Sarfez Pharmaceuticals, Inc., Vienna, VA; Tiba Biotech LLC, Cambridge, MA; Ecolab, Inc., Philadelphia, PA; Unicorn Biotechnologies, Inc., Newark, NJ; Zipcode Bio, Weston, MA; Acclinate, Inc., Birmingham, AL; Klim-Loc Medical, Inc., Carbondale, CO; Primary Diagnostics, Inc. dba Primary.Health, San Francisco, CA; Epitogenesis, Inc., Virginia Beach, VA; Microbio, Ltd., Brisbane, AUSTRALIA; Aldevron LLC, Fargo, ND; BC3 Technologies, Inc., Baltimore, MD; Genvax, Ames, IA; Maxim Biomedical, Inc., Rockville, MD; Piezo Therapeutics, Inc., Atlanta, GA; Virtu, Inc., Leesburg, VA; Digital Infuzion LLC, Rockville, MD; Neolixir, Ltd., Perth, AUSTRALIA; and XCMR, Inc., Narberth, PA have been added as parties to this venture.

Also, TFF Pharmaceuticals, Inc., Fort Worth, TX has withdrawn as a party to this venture.

No other changes have been made in either the membership or planned activity of the group research project. Membership in this group research project remains open, and RRPV intends to file additional written notifications disclosing all changes in membership.

On January 5, 2024, RRPV filed its original notification pursuant to section 6(a) of the Act. The Department of Justice published a notice in the Federal Register pursuant to section 6(b) of the Act on April 16, 2024 (89 FR 26928).

The last notification was filed with the Department on October 3, 2024. The Department of Justice published a notice in the Federal Register pursuant to section 6(b) of the Act on December 20, 2024 (89 FR 104208).

Suzanne Morris,
Deputy Director Civil Enforcement Operations, Antitrust Division.

[FR Doc. 2025-03221 Filed 2-27-25; 8:45 am]

BILLING CODE P